DEPARTMENT OF ENERGY

Federal Energy Regulatory Commission

Combined Notice of Filings #1

February 27, 2009.

Take notice that the Commission received the following electric corporate filings:

Docket Numbers: EC09-57-000.

Applicants: Waterside Power, LLC, Pinpoint Power, LLC, EIF Waterside, LLC, PDC Waterside, LLC, Waterside Power Holdings, LLC.

Description: Application Under Section 203 of the Federal Power Act for Authorization of Transactions and Request for Waivers, Expedited Consideration and Confidential Treatment of EIF Waterside, LLC, et al.

Filed Date: 02/26/2009.

Accession Number: 20090226-5071.

Comment Date: 5 p.m. Eastern Time on Thursday, March 19, 2009.

Take notice that the Commission received the following exempt wholesale generator filings:

Docket Numbers: EG09-31-000.

Applicants: Saranac Power Partners, L.P.

Description: Saranac Power Partners, L.P. Notice of Self-Certification as an Exempt Wholesale Generator.

Filed Date: 02/26/2009.

Accession Number: 20090226-5020.

Comment Date: 5 p.m. Eastern Time on Thursday, March 19, 2009.

Docket Numbers: EG09-32-000.

Applicants: EC&R Panther Creek Wind Farm III, LLC.

Description: EC&R Panther Creek Wind Farm III, LLC Notice of Self-Certification of Exempt Wholesale Generator Status in EG09-32.

Filed Date: 02/27/2009.

Accession Number: 20090227-5149.

Comment Date: 5 p.m. Eastern Time on Friday, March 20, 2009.

Take notice that the Commission received the following electric rate filings:

Docket Numbers: ER01-1403-010; ER01-2968-011; ER06-1443-006; ER04-366-008; ER01-845-009; ER05-1122-007; ER08-107-004.

Applicants: FirstEnergy Operating Companies; FirstEnergy Operating Companies, Pennsylvania Power Co., Jersey Central Power & Light Co., FirstEnergy Solutions Corp., First Energy Generation Corp., FirstEnergy Nuclear Generation Corp., FirstEnergy Mansfield Unit 1, Corp.

Description: Appendix B Listing of Generation and Transmission Assets of FirstEnergy Operating Companies, et al. for Triennial Market Power Update Analysis in the Midwest ISO.

Filed Date: 02/26/2009.

Accession Number: 20090226-5061.

Comment Date: 5 p.m. Eastern Time on Thursday, March 19, 2009.

Docket Numbers: ER04-230-042; ER01-1385-036; ER01-3155-027; EL01-45-035.

Applicants: New York Independent System Operator, Inc.; Consolidated Edison Development, Inc.; New York Independent System Operator, Inc.

Description: NYISO filing of its Seventeenth Quarterly Report regarding utilization of combined cycle units.

Filed Date: 02/24/2009.

Accession Number: 20090224-5110.

Comment Date: 5 p.m. Eastern Time on Tuesday, March 17, 2009.

Docket Numbers: ER01-1860-003.

Applicants: Cobb Electric Membership Corp.

Description: Cobb Electric Membership Corp. Supplemental Information to Market Power Update.

Filed Date: 02/25/2009.

Accession Number: 20090225-5049.

Comment Date: 5 p.m. Eastern Time on Wednesday, March 18, 2009.

Docket Numbers: ER03-9-016; ER98-2157-017.

Applicants: Westar Energy, Inc.; Kansas Gas and Electric Co.

Description: Notice of Change in Status of Westar Energy, Inc.

Filed Date: 02/24/2009.

Accession Number: 20090224-5119.

Comment Date: 5 p.m. Eastern Time on Tuesday, March 17, 2009.

Docket Numbers: ER07-319-004; EL07-73-001.

Applicants: Southwest Power Pool, Inc.

Description: Southwest Power Pool, Inc submits an Offer of Settlement and Stipulation and accompanying documents which are proposed to resolve all issues pending.

Filed Date: 02/24/2009.

Accession Number: 20090225-0213.

Comment Date: 5 p.m. Eastern Time on Tuesday, March 17, 2009.

Docket Numbers: ER07-1372-015.

Applicants: Midwest Independent Transmission System Operator, Inc.

Description: Midwest Independent Transmission System Operator, Inc. submits proposed revisions to their Open Access Transmission, Energy and Operating Reserve Markets Tariff.

Filed Date: 01/22/2009.

Accession Number: 20090126-0220.

Comment Date: 5 p.m. Eastern Time on Friday, March 20, 2009.

Docket Numbers: ER08-371-003.

Applicants: Cooperative Energy Inc.

Description: Cooperative Energy Inc. (an Electric Membership Corporation) Supplemental Information to Market Power Update.

Filed Date: 02/25/2009.

Accession Number: 20090225-5050.

Comment Date: 5 p.m. Eastern Time on Wednesday, March 18, 2009.

Docket Numbers: ER09-291-001.

Applicants: ISO New England Inc.

Description: ISO New England submits Substitute 1st Rev Sheet 9669 et al.

Filed Date: 02/23/2009.

Accession Number: 20090225-0191.

Comment Date: 5 p.m. Eastern Time on Monday, March 16, 2009.

Docket Numbers: ER09-343-001.

Applicants: SC Landfill Energy, LLC.

Description: SC Landfill Energy, LLC submits revisions to Electric Tariff, Original Volume 1.

Filed Date: 02/25/2009.

Accession Number: 20090226-0197.

Comment Date: 5 p.m. Eastern Time on Wednesday, March 18, 2009.

Docket Numbers: ER09-370-002.

Applicants: EPCOR USA North Carolina LLC.

Description: EPCOR USA North Carolina, LLC submits supplement to the Notice of Change in Status re market based rate authority filed on 12/1/08.

Filed Date: 02/23/2009.

Accession Number: 20090225-0008.

Comment Date: 5 p.m. Eastern Time on Monday, March 16, 2009.

Docket Numbers: ER09-734-000.

Applicants: Pittsfield Generating Co., L.P.

Description: Pittsfield Generating Co, LP submits request to waive the application of the unreserved transmission use penalty provisions.

Filed Date: 02/20/2009.

Accession Number: 20090225-0005.

Comment Date: 5 p.m. Eastern Time on Friday, March 13, 2009.

Docket Numbers: ER09-735-000.

Applicants: Black Hills Power, Inc.

Description: Black Hills Power, Inc submits a request for FERC to accept an amendment to an Agreement for Interconnection Service effective as of 1/20/09.

Filed Date: 02/20/2009.

Accession Number: 20090225-0006.

Comment Date: 5 p.m. Eastern Time on Friday, March 13, 2009.

Docket Numbers: ER09-736-000.

Applicants: New York Independent System Operator, Inc.

Description: New York Independent System Operator, Inc submits proposed tariff revisions.

Filed Date: 02/20/2009.

Accession Number: 20090225-0007.

Comment Date: 5 p.m. Eastern Time on Friday, March 13, 2009.

Docket Numbers: ER09-741-000.

Applicants: Synergy Power Marketing Inc.

Description: SYNERGY Power Marketing Inc, submits Notice of Cancellation of Market-Based Rate Tariff, and First Revised Sheet 1 to FERC Electric Tariff, Original Volume 1.

Filed Date: 02/23/2009.

Accession Number: 20090225-0010.

Comment Date: 5 p.m. Eastern Time on Monday, March 16, 2009.

Docket Numbers: ER09-746-000.

Applicants: Optim Energy Marketing, LLC.

Description: Optim Energy Marketing, LLC submits a Notice of Succession to inform the Commission of a corporate name change from EnergyCoMarketing & Trading, LLC to Optim Energy Marketing.

Filed Date: 02/24/2009.

Accession Number: 20090225-0211.

Comment Date: 5 p.m. Eastern Time on Tuesday, March 17, 2009.

Docket Numbers: ER09-748-000.

Applicants: Southwest Power Pool, Inc.

Description: Southwest Power Pool, Inc submits proposes to revise its Open Access Transmission Tariff.

Filed Date: 02/24/2009.

Accession Number: 20090225-0209.

Comment Date: 5 p.m. Eastern Time on Tuesday, March 17, 2009.

Docket Numbers: ER09-749-000.

Applicants: Arizona Public Service Co.

Description: Arizona Public Service Co. submits revisions to its Open Access Transmission Tariff incorporate by standards promulgated by the North American Energy Standards Board.

Filed Date: 02/24/2009.

Accession Number: 20090225-0208.

Comment Date: 5 p.m. Eastern Time on Tuesday, March 17, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-4749 Filed 3-5-09; 8:45 am]

BILLING CODE 6717-01-P